ENVIRONMENTAL PROTECTION AGENCY

[FRL-7377-5]

EPA Science Advisory Board Executive Committee; Notification of Public Advisory Committee Meeting

Pursuant to the Federal Advisory Committee Act, Public Law 92-463, notice is hereby given that the Executive Committee (EC) of the U.S. EPA Science Advisory Board (SAB) will meet on Tuesday, October 1, 2002 and Wednesday, October 2, 2002 at the Hotel Washington, (Federal Room) 515 15th Street, NW., Washington, DC. The meeting will begin by 9 a.m. on October 1 and adjourn no later than 3 p.m. on October 2, 2002 Eastern Time. The meeting is open to the public, however, seating is limited and available on a first come basis.

Purpose of the Meeting: This meeting of the SAB Executive Committee is one in a series of periodic meetings in which the EC takes action on reports generated by SAB Committees, meets with Agency leadership, and addresses a variety of issues germane to the operation of the Board. The agenda for the meeting will be posted on the SAB Web site(http://www.epa.gov/sab) approximately two weeks before the meeting and may include, but not be limited to the following:

1. Action on Committee reports, including:

(a) Radiation Advisory Committee (RAC): “Underground Storage Tanks (UST) Cleanup and Resource Conservation and Recovery Act (RCRA) Subtitle C Program Benefits, Costs, and Impacts Assessments: An EPA Science Advisory Board Advisory”

(b) Executive Committee's Trichloroethylene (TCE) Review Panel: “Review of Draft Trichloroethylene Health Risk Assessment: Synthesis and Characterization-An SAB Report”

2. Meeting with Agency leaders, including

(a) Ms. Linda Fisher, Deputy Administrator, USEPA

(b) Dr. Paul Gilman, Science Advisor to Governor Whitman, and Assistant Administrator, Office of Research and Development, USEPA

3. Matters of Board business, including

(a) Finalizing the SAB project agenda for FY2003.

(b) A Consultation on Data Quality and Reproducibility—The background and charge questions for this consultation are located on the SAB Web site under “Recent Additions” then click “Executive Committee.” For further information about the Consultation, please contact Mr. Lawrence Martin, Designated Federal Officer on 202-564-6497, or via e-mail at martin.lawrence@epa.gov.

Availability of Review Materials: Draft SAB reports or other relevant materials will be posted on the SAB Web site (http://www.epa.gov/sab) approximately two weeks before the date of the meeting.

For Further Information: Any member of the public wishing further information concerning this meeting or wishing to submit brief oral comments (5 minutes or less) must contact Mr. A. Robert Flaak, Designated Federal Officer, EPA Science Advisory Board (1400A), U.S. Environmental Protection Agency, 1200 Pennsylvania Avenue, NW., Washington, DC 20460; telephone (202) 564-4546; FAX (202) 501-0582; or via e-mail at flaak.robert@epa.gov. Requests for oral comments must be in writing (e-mail, fax or mail) and received by Mr. Flaak no later than noon Eastern Time on September 24, 2002. Logistical information concerning this meeting is available from Ms. Diana Pozun, Program Specialist, EPA Science Advisory Board (1400A), U.S. Environmental Protection Agency, 1200 Pennsylvania Avenue, NW., Washington, DC 20460; telephone (202) 564-4544; FAX (202) 501-0323; or via e-mail at pozun.diana@epa.gov.

Providing Oral or Written Comments at SAB Meetings

It is the policy of the EPA Science Advisory Board to accept written public comments of any length, and to accommodate oral public comments whenever possible. The EPA Science Advisory Board expects that public statements presented at its meetings will not be repetitive of previously submitted oral or written statements. Oral Comments: In general, each individual or group requesting an oral presentation at a face-to-face meeting will be limited to a total time of ten minutes (unless otherwise indicated). For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the committee for their consideration. Comments should be supplied to Dr. Barnes at the address/contact information noted above in the following formats: one hard copy with original signature, and one electronic copy via e-mail (acceptable file format: WordPerfect, Word, or Rich Text files (in IBM-PC/Windows 95/98 format). Those providing written comments and who attend the meeting are also asked to bring 25 copies of their comments for public distribution.

General Information: Additional information concerning the EPA Science Advisory Board, its structure, function, and composition, may be found on the SAB Web site (http://www.epa.gov/sab) and in The FY2001 Annual Report of the Staff Director which is available from the SAB Publications Staff at (202) 564-4533 or via fax at (202) 501-0323.

Meeting Access: Individuals requiring special accommodation at this meeting, including wheelchair access to the conference room, should contact Mr. Flaak at least five business days prior to the meeting so that appropriate arrangements can be made.

Dated: September 9, 2002.
Vanessa Vu,
Director, EPA Science Advisory Board Staff Office.

[FR Doc. 02-23590 Filed 9-16-02; 8:45 am]

BILLING CODE 6560-50-P